FEDERAL COMMUNICATIONS COMMISSION

47 CFR Parts 1, 61, and 69

[CC Docket No. 96-128; FCC 02-39]

Implementation of Pay Telephone Reclassification and Compensation Provisions of the Telecommunications Act of 1996

AGENCY: Federal Communications Commission.

ACTION: Final rule.

SUMMARY: In this document the Commission declined to modify its accounting safeguards in the manner requested by the Inmate Calling Services Provider Coalition (ICSPC) in part because the Commission's existing rules already provide for much of the relief that the ICSPC requested. The intended effect of this document is to maintain the existing Commission rules regarding the accounting safeguards.

FOR FURTHER INFORMATION CONTACT: Joi Roberson Nolen, Wireline Competition Bureau, 202-418-1537.

SUPPLEMENTARY INFORMATION: Section 276 of the Communications Act of 1934, as amended (the Act), directs the Commission to “establish a per call compensation plan to ensure that all payphone service providers are fairly compensated for each and every completed intrastate and interstate call using their payphone.” See 47 U.S.C. 276(b)(1)(A). The ICSPC sought reconsideration of certain issues relating to inmate calling services. See Implementation of the Pay Telephone Reclassification and Compensation Provisions of the Telecommunications Act of 1996, CC Docket No. 96-128, Order on Reconsideration, 11 FCC Rcd 21233 (1996), 61 FR 65341 (Dec. 12, 1996)(Order on Reconsideration) aff'd in part and remanded in part, Illinois Pub. Tel. Ass'n v. FCC, 117 F.3d 555 (D.C. Cir. 1997), cert. denied sub nom., Virginia State Corp. Comm'n v. FCC, 523 U.S. 1046 (1998). ICSPC, along with numerous other parties, initially sought review of the Order on Reconsideration before the United States Court of Appeals for the District of Columbia Circuit and consolidated its appeal under the lead case Illinois Public Telecommunications Association v. FCC. The court subsequently severed ICSPC's appeal, and later remanded it at the Commission's request. The Commission issued a Public Notice asking parties to update and refresh the record with respect to the issues raised in ICSPC's appeal.

In this order, the Commission concluded that section 276's fair compensation requirement does not require either preemption of state local collect calling caps or imposition of a federally-tariffed surcharge above state rate caps for local inmate calls. The Commission also concluded that ICSPC's requested nonstructural safeguards are not necessary, in light of those that section 276 and our rules already impose. In addition, the Commission initiated a Notice of Proposed Rulemaking to examine the costs associated with the provision of inmate calling services. See Implementation of the Pay Telephone Reclassification and Compensation Provisions of the Telecommunications Act of 1996, CC Docket No. 96-128, Notice of Proposed Rulemaking, FCC 02-39 ( Feb. 21, 2002) (published elsewhere in this issue) .

Accordingly, it is ordered that, pursuant to the authority contained in sections 1, 4(i)-4(j), and 276 of the Communications Act of 1934, as amended, 47 U.S.C. 151, 154(i)-(j), 276, the Petition for Partial Reconsideration and Clarification of the Inmate Calling Services Providers Coalition is denied.

Federal Communications Commission.
William F. Caton,
Acting Secretary.

[FR Doc. 02-8343 Filed 4-8-02; 8:45 am]

BILLING CODE 6712-01-P